DEFENSE NUCLEAR FACILITIES SAFETY BOARD

Sunshine Act Notice

AGENCY: Defense Nuclear Facilities Safety Board.

ACTION: Notice of public meeting and hearing.

SUMMARY: Pursuant to the provisions of the “Government in the Sunshine Act” (5 U.S.C. 552b), and as authorized by 42 U.S.C. 2286b, notice is hereby given of the Defense Nuclear Facilities Safety Board's (Board) public meeting and hearing described below. The Board invites any interested persons or groups to present any comments, technical information, or data concerning safety issues related to the matters to be considered.

TIME AND DATE OF MEETING: 8:30 a.m.-11:45 p.m., October 7, 2014.

PLACE: Defense Nuclear Facilities Safety Board, 625 Indiana Avenue NW., Suite 352, Washington, DC 20004-2901.

STATUS: Open. While the Government in the Sunshine Act does not require that the scheduled discussion be conducted in an open meeting, the Board has determined that an open meeting in this specific case furthers the public interests underlying both the Government in the Sunshine Act and the Board's enabling legislation.

MATTERS TO BE CONSIDERED: This public meeting and hearing is the third in a series of five hearings the Board will convene to address safety culture at Department of Energy (DOE) defense nuclear facilities and the Board's Recommendation 2011-1, Safety Culture at the Waste Treatment and Immobilization Plant. The final two hearings will be announced by separate notices at a future date. In the first hearing convened on May 28, 2014, the Board received testimony from recognized industry and federal government experts in the field of safety culture, with a focus on the tools used for assessing safety culture, approaches for interpreting the assessment results, and how results can be used for improving safety culture. In the second hearing convened on August 27, 2014, the Board received testimony from current and former United States Navy officers concerning the Navy's approach to ensuring a strong safety culture in its nuclear fleet operations. The Board also received testimony from federal government and academic experts on the role of organizational leaders in establishing and maintaining an effective, positive safety culture. In this third hearing, the Board will continue to address significant safety culture issues. The hearing will be convened in a morning session with three witness panels. In the first panel the Honorable Ernest J. Moniz, Secretary, U.S. Department of Energy, will provide testimony concerning his vision for establishing a strong safety culture in DOE. Secretary Moniz will also discuss his views on other Departmental priorities. In the second panel, the Board will receive testimony from the Honorable Frank G. Klotz (USAF Ret.), Administrator, National Nuclear Security Administration (NNSA). Administrator Klotz is expected to discuss concerns identified in NNSA safety culture assessments and present his approaches to address those concerns. He is also expected to offer his perspective on the safety culture of NNSA contractor organizations, his expectations for safety culture, and his approaches to address any identified safety culture concerns. In the third and final panel, the Board will receive testimony from Mr. David M. Klaus, Deputy Under Secretary for Management and Performance, DOE. Mr. Klaus is similarly expected to examine concerns identified in DOE safety culture assessments and his approaches to address those concerns. He will also discuss his perspective on the safety culture of DOE contractor organizations, his expectations for safety culture, and his approaches to address any identified safety culture concerns.

CONTACT PERSON FOR MORE INFORMATION: Mark Welch, General Manager, Defense Nuclear Facilities Safety Board, 625 Indiana Avenue NW., Suite 700, Washington, DC 20004-2901, (800) 788-4016. This is a toll-free number.

SUPPLEMENTARY INFORMATION: Public participation in the hearing is invited. The Board is setting aside time at the end of the hearing for presentations and comments from the public. Requests to speak may be submitted in writing or by telephone. The Board asks that commenters describe the nature and scope of their oral presentations. Those who contact the Board prior to close of business on October 3, 2014, will be scheduled to speak at the conclusion of the hearing at approximately 11:25 a.m. The Board will post a schedule for speakers at the entrance to the hearing room. Commenters may also sign up to speak the day of the hearing at the entrance to the hearing room. Anyone who wishes to comment or provide technical information or data may do so in writing, either in lieu of, or in addition to, making an oral presentation. The Board Members may question presenters to the extent deemed appropriate. Documents will be accepted at the hearing or may be sent to the Board's Washington, DC office. The Board will hold the record open until November 7, 2014, for the receipt of additional materials. The hearing will be presented live through Internet video streaming. A link to the presentation will be available on the Board's Web site (www.dnfsb.gov). A transcript of the hearing, along with a DVD video recording, will be made available by the Board for inspection and viewing by the public at the Board's Washington office and at DOE's public reading room at the DOE Federal Building, 1000 Independence Avenue SW., Washington, DC 20585. The Board specifically reserves its right to further schedule and otherwise regulate the course of the meeting and hearing, to recess, reconvene, postpone, or adjourn the meeting and hearing, conduct further reviews, and otherwise exercise its power under the Atomic Energy Act of 1954, as amended.

Dated: September 22, 2014.
Peter S. Winokur,
Chairman.

[FR Doc. 2014-22941 Filed 9-23-14; 11:15 am]

BILLING CODE 3670-01-P